DEPARTMENT OF ENERGY

Federal Energy Regulatory Commission

Combined Notice of Filings #1

August 14, 2009.

Take notice that the Commission received the following electric rate filings:

Docket Numbers: ER01-1822-006.

Applicants: Indigo Generation LLC, Larkspur Energy LLC, Wildflower Energy LP.

Description: Indigo Generation LLC, et al. Notification of Non-Material Change in Status.

Filed Date: 08/12/2009.

Accession Number: 20090812-5083.

Comment Date: 5 p.m. Eastern Time on Wednesday, September 02, 2009.

Docket Numbers: ER08-370-009.

Applicants: Midwest Independent System Transmission Operator, Inc.

Description: Missouri River Energy Services et al. submits Attachment O transmission rate formula tariff sheet under the Midwest Independent Transmission System Operator, Inc Open Access Transmission and Energy Markets Tariff.

Filed Date: 08/12/2009.

Accession Number: 20090813-0232.

Comment Date: 5 p.m. Eastern Time on Wednesday, September 02, 2009.

Docket Numbers: ER09-1119-001.

Applicants: Pacific Gas and Electric Company.

Description: Compliance Refund Report of Pacific Gas and Electric Company.

Filed Date: 08/12/2009.

Accession Number: 20090812-5077.

Comment Date: 5 p.m. Eastern Time on Wednesday, September 02, 2009.

Docket Numbers: ER09-1573-000.

Applicants: Pacific Gas and Electric Company.

Description: Pacific Gas and Electric Company submits an executed amendment to the Grizzly Development and Mokelumne Settlement Agreement with the City of Santa Clara, California.

Filed Date: 08/12/2009.

Accession Number: 20090813-0028.

Comment Date: 5 p.m. Eastern Time on Wednesday, September 02, 2009.

Docket Numbers: ER09-1574-000.

Applicants: MidAmerican Energy Company.

Description: MidAmerican Energy Company submits First Revised Rate Schedule 42 with ITC Midwest LLC dated effective 9/1/09 et al.

Filed Date: 08/12/2009.

Accession Number: 20090813-0026.

Comment Date: 5 p.m. Eastern Time on Friday, August 21, 2009.

Docket Numbers: ER09-1575-000.

Applicants: Midwest Independent Transmission System Operator, Inc.

Description: Midwest Independent Transmission System Operator, Inc submits an Amended and Restated Facilities Construction Agreement with Benton County Wind Farm, LLC, to be effective 8/13/09.

Filed Date: 08/12/2009.

Accession Number: 20090813-0100.

Comment Date: 5 p.m. Eastern Time on Wednesday, September 02, 2009.

Docket Numbers: ER09-1576-000.

Applicants: New York Independent System Operator, Inc.

Description: New York Independent System Operator Inc submits filing to request a limited waiver, to the extent the Commission deems a waiver necessary, from the application of Attachment C of its Market Administration etc.

Filed Date: 08/12/2009.

Accession Number: 20090813-0227.

Comment Date: 5 p.m. Eastern Time on Wednesday, September 02, 2009.

Docket Numbers: ER09-1577-000.

Applicants: California Independent System Operator Corporation.

Description: The California Independent System Operator Corp submits Amendment No. 5 to the Interconnected Control Area Operating Agreement with Sacramento Municipal Utility District.

Filed Date: 08/12/2009.

Accession Number: 20090813-0223.

Comment Date: 5 p.m. Eastern Time on Wednesday, September 02, 2009.

Docket Numbers: ER09-1578-000.

Applicants: California Independent System Operator Corporation.

Description: California Independent System Operator Corporation submits for Commission filing and acceptance Amendment 1 etc.

Filed Date: 08/12/2009.

Accession Number: 20090813-0226.

Comment Date: 5 p.m. Eastern Time on Wednesday, September 02, 2009.

Docket Numbers: ER09-1579-000.

Applicants: Central Maine Power Company.

Description: Central Maine Power Company submits the Engineering and Procurement Agreement dated 7/14/09 with Fox Islands Electric Cooperative, Inc designated as Original Service Agreement CMP-EP-3.

Filed Date: 08/13/2009.

Accession Number: 20090813-0156.

Comment Date: 5 p.m. Eastern Time on Thursday, September 03, 2009.

Docket Numbers: ER09-1581-000.

Applicants: Midwest Independent Transmission System Operator, Inc.

Description: Midwest Independent Transmission System Operator, Inc submits amended and restated generator interconnection agreement among Northern States Power Company, a Minnesota Corporation, et al.

Filed Date: 08/13/2009.

Accession Number: 20090814-0074.

Comment Date: 5 p.m. Eastern Time on Thursday, September 03, 2009.

Docket Numbers: ER09-1582-000.

Applicants: Consolidated Edison Company of New York.

Description: Consolidated Edison Company of New York, Inc submits an amendment to Con Edison's Delivery Service Rate Schedule 96.

Filed Date: 08/14/2009.

Accession Number: 20090814-0076.

Comment Date: 5 p.m. Eastern Time on Friday, September 04, 2009.

Docket Numbers: ER09-1583-000.

Applicants: PJM Interconnection, LLC.

Description: PJM Interconnection, LLC submits revised sheet of the Amended and Restated Operating Agreement of PJM Interconnection, LLC.

Filed Date: 08/14/2009.

Accession Number: 20090814-0077.

Comment Date: 5 p.m. Eastern Time on Friday, September 04, 2009.

Docket Numbers: ER09-1584-000.

Applicants: Tampa Electric Company.

Description: Tampa Electric Company submits amendment of transmission service agreement with Auburndale Power Partners, Limited Partnership.

Filed Date: 08/14/2009.

Accession Number: 20090814-0075.

Comment Date: 5 p.m. Eastern Time on Friday, September 04, 2009.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-20357 Filed 8-24-09; 8:45 am]

BILLING CODE 6717-01-P